DEPARTMENT OF HEALTH AND HUMAN SERVICES

Centers for Disease Control and Prevention

[Program Announcement 02161]

Support for Municipal Health Departments in Zimbabwe for Development of Innovative Programmatic Models for Prevention and Care Services for HIV/AIDS; Notice of Availability of Funds

A. Purpose

The Centers for Disease Control and Prevention (CDC) announces the availability of fiscal year (FY 2002) funds for a cooperative agreement with the Municipal Health Departments in Zimbabwe for Development of Innovative Programmatic Models for Prevention and Care Services for HIV/AIDS.

The purpose of this cooperative agreement is to offer support to municipal health departments in Zimbabwe for implementation of innovative programs to address HIV/AIDS. Special areas of interest include projects for which access to more intensive laboratory services, clinical, or evaluation expertise that are available in a city may be needed in order to develop simplified algorithms or program models that could then be implemented more broadly in Zimbabwe. Examples include programs for delivery of highly active antiretroviral therapy (HAART), programs for the Prevention of Mother-To-Child Transmission (PMTCT). Also, developing and delivering training programs designed for the needs and convenience of private medical practitioners, who tend to be concentrated in large cities, is another target of this request for proposals from municipal health services.

B. Eligible Applicants

Municipal health departments are the sole potential applicants for this announcement for several reasons:

1. The purpose of this announcement is to establish actual programmatic, public sector models for innovative approaches to HIV care, prevention, and training within the health care system of Zimbabwe, so that only licensed, public sector providers of health care within Zimbabwe could apply. The only two other public sector-supported providers of health care in Zimbabwe, the Ministry of Health and Child Welfare (MOHCW), and the Mission Hospitals (represented by the Zimbabwe Association of Church Hospitals (ZACH), have been funded through other cooperative agreements with CDC.

2. Among the publicly supported systems of health care, Municipal Health Departments have consistently served as a source of innovation and development of models that can be readily exported to other public sector services, in particular the MOHCW.

3. At the current time, only the Municipal Health services of the major cities could possibly bring together the required expertise from the Faculty of the UZ Medical School in combination with clinical facilities and staff. Harare and Bulawayo Health Departments have long been in the forefront of innovation and training in public health in Africa. These and other city health departments are the only health system operators that are located in the major population centers where a sufficient volume of patients is available to serve as the basis for large-scale training programs.

C. Availability of Funds

Approximately $200,000 is available in FY 2002 to fund one or two awards between $50,000-$200,000 per award. It is expected that the awards will begin on or about August 30, 2002, and will be made for a 12-month budget period within a project period of up to five years. Funding estimates may change.

Continuation awards within an approved project period will be made on the basis of satisfactory progress as evidenced by required reports and the availability of funds.

Use of Funds

The purchase of antiretrovirals, reagents, and laboratory equipment for antiretroviral treatment projects requires pre-approval from the Global AIDS Program (GAP) headquarters.

Applicants may contract with other organizations under these cooperative agreements, however, applicants must perform a substantial portion of the activities including program management and operations and delivery of prevention services for which funds are requested.

The costs that are generally allowable in grants to domestic organizations are likewise allowable to foreign institutions and international organizations, with the following exceptions:

Indirect Costs: With the exception of the American University, Beirut, the Gorgas Memorial Institute, and the World Health Organization (WHO), indirect costs will not be paid (either directly or through a sub-award) to organizations located outside the territorial limits of the United States or to international organizations regardless of their location.

All requests for funds, including the budget contained in the application, shall be stated in U.S. dollars. Once an award is made, the Department of Health and Human Services (DHHS) will not compensate foreign grantees for currency exchange fluctuations through the issuance of supplemental awards.

Federal law requires that no funds appropriated under this cooperative agreement shall be used to carry out any program of distributing sterile needles or syringes for the hypodermic injection of any illegal drug.

D. Program Requirements

In conducting activities to achieve the purpose of this program, the recipient(s) will be responsible for the activities under 1. (Recipient Activities), and CDC will be responsible for the activities listed under 2. (CDC Activities).

1. Recipient Activities

Implement innovative program models for prevention or care activities for HIV/AIDS, working in the framework of available national guidelines and with participation of the relevant units of the (MOHCU), in areas for which technological sophistication such as special capability in laboratory services, health informatics, evaluation capacity, specialized clinical expertise, or other services are uniquely available. Examples of such areas include, but are not limited to:

a. Programs to deliver Highly Active Antiretroviral Therapy (HAART) in African setting;

b. Programs for PMTCT of HIV infection; and

c. Pograms for multidisciplinary AIDS care for special groups (e.g., HIV-infected children or all hearing-impaired persons) that involve establishing networks of care and referral among diverse health care and social services providers.

Initiate a broad operational research program in the domain of one or more areas of innovative clinical prevention or care services. In the process of providing such care, fully document the nature and cost-effectiveness of such care and prevention strategies, and disseminate the findings. By conducting all these activities in a collaborative, multidisciplinary context, identify and develop tools to help facilitate development of reports, documents, or other products that will lead toward:

a. A resource center for developing simpler public health approaches and models, but providing expert backup and evaluation for those;

b. A referral center for difficult cases encountered in settings with less resources; and

c. A training center for scaling up the implementation nationally.

Collaborate with other CDC grantees and with CDC to identify high priority activities in the domains of clinical prevention and care services that are susceptible to a resource-intensive collaboration of diverse agencies and institutions such as are only found in larger cities. Work to develop and implement protocols that will help elucidate viable public health models for delivering such interventions in the context of public health services in Zimbabwe. Assist in developing tools for program expansion following any successful pilot activities, in collaboration with MOHCW, CDC, University of Zimbabwe, and other partners.

2. CDC Activities

Collaborate with the Recipient on designing and implementing the activities listed above, including but not limited to the provision of technical assistance to develop and implement program activities, analyses, and capacity building assistance.

When necessary, procure specific services, equipment and supplies, as well as other materials required to support implementation of activities covered under this agreement.

Monitor project and budget performance.

E. Content

Letter of Intent (LOI)

A LOI is required for this program. The narrative should be no more than two (2) double-spaced pages, printed on one side, with one-inch margins, and size 12 font. Your letter of intent will be used to help plan the review process, and should include the following information:

1. Principal Organization

2. Partners, Districts, Regions Involved

3. 500 word (or less) abstract outlining “Central Concepts” to be developed more fully in the complete application

4. 300 word (or less) statement of qualifications and capacity.

5. Estimated amount of funds to be requested.

Applications

Use the information in the Program Requirements, Other Requirements, and Evaluation Criteria sections to develop the application content. Your application will be evaluated on the criteria listed, so it is important to follow them in laying out your program plan. The narrative should consist of, at a minimum, a plan, objectives, methods, evaluation and budget; and be no more than 20 double-spaced pages, printed on one side, with one-inch margins, and 12-point font.

F. Submission and Deadline

Letter of Intent (LOI)

On or before June 14, 2002, submit the LOI to the Grants Management Specialist identified in the “Where to Obtain Additional Information” section of this announcement.

Application

Submit the original and two copies of PHS 5161-1 (OMB Number 0920-0428). Forms are available in the application kit and at the following Internet address: www.cdc.gov/od/pgo/forminfo.htm On or before July 15, 2002, submit the application to the Grants Management Specialist identified in the “Where to Obtain Additional Information” section of this announcement.

Deadline: Letters of Intent and final Applications shall be considered as meeting the deadline if they are:

Received on or before the deadline date.

Late: Letters of Intent and Applications which do not meet the above criteria will be returned to the applicant.

G. Evaluation Criteria

Note: Each application will be evaluated individually against the following criteria by an independent review group appointed by CDC. Domains for this evaluation will include:

Understanding the Purpose of the Overall Plan of the Application (15 points)

A cogent, brief summary of critical issues; succinct, coherent understanding of the purpose of the program announcement; and cross-cutting, cost-effective approaches to responding to the announcement.

Objectives (15 points)

A translation of the general purposes of the program announcement into no more than four specific objectives, products, or outputs of the cooperative agreement.

Methods (15 points)

Enunciation of a methodology appropriate for accomplishing the Objectives outlined above.

Evaluation (15 points)

Brief explanation of how internal monitoring and evaluation of this program will contribute to strengthening and institutionalization of this program during the period of the grant.

Capacity (40 points)

Strengthening operational capacity of civil service organizations. (20 points)

Expanding prevention, care and support services provided by civil society organizations. (20 points)

Budget and Cost-effectiveness. (Reviewed but not scored)

Creative and convincing approaches to resource utilization (financial, personnel, computing, etc.) to lead to a major impact of available resources.

Human Subjects. (Reviewed but not scored)

The extent to which the application adequately addresses the requirements listed in the 45 CFR part 46 for the protection of human subjects.

H. Other Requirements

Technical Reporting Requirements

1. Progress reports (annual); a brief, comprehensive narrative progress report should be submitted no later than 30 days after the end of the budget period. The progress report must include the following: (a) A comparison of the actual accomplishments to the objectives established; (b) the reasons for slippage if established objectives were not met; and (c) other pertinent information.

2. Measures of effectiveness that will demonstrate the accomplishment of the various identified objectives of the grant/cooperative agreement. Measures must be objective/quantitative and must measure the intended outcome. These Measures of Effectiveness shall be submitted with your application and shall be an element of evaluation.

3. Financial status report, no more than 90 days after the end of the budget period.

4. Final financial report and performance report, no more than 90 days after the end of the project period.

Obtain annual audit of these CDC funds (program-specific audit) by a U.S.-based audit firm with international branches and current licensure/authority in country, and in accordance with International Accounting Standards or equivalent standard(s) approved in writing by CDC.

A fiscal Recipient Capability Assessment may be required with the potential awardee, prior or post award, in order to review their business management and fiscal capabilities regarding the handling of U.S. Federal funds.

Send all reports to the Grants Management Specialist identified in the “Where to Obtain Additional Information” section of this announcement.

The following additional requirements are applicable to this program. For a complete description of each, see Attachment I of the announcement.

AR-1 Human Subjects Requirements

AR-2 Requirements for Inclusion of Women and Racial and Ethnic Minorities in Research

AR-4 HIV/AIDS Confidentiality Provisions

AR-12 Lobbying Restrictions

AR-14 Accounting System Requirements

AR-22 Research Integrity

I. Authority and Catalog of Federal Domestic Assistance Number

This program is authorized under section 307 of the Public Health Service Act, (42 U.S.C. section 242l), as amended. The Catalog of Federal Domestic Assistance number is 93.118.

J. Where To Obtain Additional Information

This and other CDC announcements can be found on the CDC home page Internet address— http://www.cdc.gov Click on “Funding” then “Grants and Cooperative Agreements.”

To obtain business management technical assistance, contact: Dorimar Rosado, Grants Management Specialist, International & Territories Acquisition & Assistance Branch Procurement & Grants Office, Centers for Disease Control and Prevention, Room 3000, 2920 Brandywine Road, Atlanta, GA 30341-4146, Telephone: (770) 488-2782, E-mail: dpr7@cdc.gov

For program technical assistance, contact: Michael St. Louis, M.D., Global AIDS Program (GAP), Zimbabwe Country Team, National Center for HIV, STD, and TB Prevention, Centers for Disease Control and Prevention (CDC), Zim-CDC AIDS Project Team, 38 Samora Machel Avenue, 2nd Floor, Harare, Zimbabwe, Telephone: 263 4 796040 796048, Fax: 263 4 796032, E-mail: stlouism@zimcdc.co.zw

Dated: May 4, 2002.
Sandra R. Manning,
Director, Procurement and Grants Office, Centers for Disease Control and Prevention.

[FR Doc. 02-11560 Filed 5-8-02; 8:45 am]

BILLING CODE 4163-18-P